ENVIRONMENTAL PROTECTION AGENCY

40 CFR Parts 174 and 180

[EPA-HQ-OPP-2025-0028; FRL-12474-07-OCSPP]

Receipt of Pesticide Petitions Filed for Residues of Pesticide Chemicals in or on Various Commodities—July 2025

AGENCY: Environmental Protection Agency (EPA).

ACTION: Notice of filing of petitions and request for comment.

SUMMARY: This document announces the Agency's receipt of and solicits public comment on initial filings of pesticide petitions requesting the establishment or modification of regulations for residues of pesticide chemicals in or on various commodities. The Agency is providing this notice in accordance with the Federal Food, Drug, and Cosmetic Act (FFDCA). EPA uses the month and year in the title to identify when the Agency compiled the petitions identified in this notice of filing. Unit II. of this document identifies certain petitions received in 2021, 2023, 2024, and 2025 that are currently being evaluated by EPA, along with information about each petition, including who submitted the petition and the requested action.

DATES: Comments must be received on or before October 29, 2025.

ADDRESSES: Submit your comments, identified by docket identification (ID) number and the pesticide petition (PP) of interest identified in Unit II. of this document, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Each application summary in Unit II. specifies a contact division. The appropriate division contacts are identified as follows:

• BPPD (Biopesticides and Pollution Prevention Division) (Mail Code 7511M); Shannon Borges; main telephone number: (202) 566-1400; email address: BPPDFRNotices@epa.gov.

• RD (Registration Division) (Mail Code 7505T); Charles Smith; main telephone number: (202) 566-1030; email address: RDFRNotices@epa.gov.

SUPPLEMENTARY INFORMATION:

I. Executive Summary

A. Does this action apply to me?

This action provides information that is directed to the public in general.

B. What is the Agency's authority for taking this action?

EPA regulations for residues of pesticide chemicals in or on various food commodities are established under section 408 of the Federal Food, Drug, and Cosmetic Act (FFDCA), 21 U.S.C. 346a. FFDCA section 408(d)(3), 21 U.S.C. 346a(d)(3), requires EPA to publish a notice of receipt of these petitions in the Federal Register and provide an opportunity for public comment on the requests.

C. What action is the Agency taking?

As specified in FFDCA section 408(d)(3), 21 U.S.C. 346a(d)(3), EPA is publishing notice of the receipt of pesticide petitions filed under FFDCA section 408 that request the establishment or modification of regulations for residues of pesticide chemicals in or on various food commodities. The Agency is taking public comment on the requests before responding to the petitioner. Pursuant to 40 CFR 180.7(f), a summary of the petition identified in this document, prepared by the petitioner, is included in a docket. EPA has determined that the pesticide petitions described in this document contain data or information prescribed in FFDCA section 408(d)(2), 21 U.S.C. 346a(d)(2), and 40 CFR 180.7(b); however, EPA has not fully evaluated the sufficiency of the submitted data at this time or whether the data supports granting the pesticide petitions. After considering the public comments, EPA intends to evaluate whether and what action may be warranted. Additional data may be needed before EPA can make a final determination on these pesticide petitions.

Based upon review of the data supporting these petitions and in accordance with its authority under FFDCA section 408(d)(4)(A)(i), EPA may establish a final tolerance or tolerance exemption that “may vary from that sought by the petitioner.” For example, EPA may determine that it is appropriate to vary the commodity name for consistency with EPA's Food and Feed Commodity Vocabulary, which is located here https://www.epa.gov/pesticide-tolerances/food-and-feed-commodity-vocabulary, or vary the tolerance level based on available data, harmonization interests, or the trailing zeros policy. In addition, when evaluating a petition's requests for a tolerance or exemption, EPA will consider how use of the pesticide on a crop for which a tolerance is requested may result in residues in or on commodities related to that requested commodity (e.g., whether use on sugar beets for which a tolerance was requested on sugar beet root also requires a tolerance on sugar beet tops or whether use on a cereal grain for which a grain tolerance was requested also requires a tolerance on related animal feed commodities derived from that cereal grain). Public commenters should consider the possibility of such revisions in preparing comments on these petitions.

D. What should I consider as I prepare my comments for EPA?

1. Submitting CBI. Do not submit CBI to EPA through https://www.regulations.gov or email. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at https://www.epa.gov/dockets/commenting-epa-dockets.

II. Petitions Received

This unit provides the following information about the petitions:

• The Pesticide Petition (PP) Identification (IN) number;

• EPA docket ID number for the petition;

• Information about the petition (i.e., name of the petitioner, name of the pesticide chemical residue and the commodities for which a tolerance or exemption is sought);

• The analytical method available to detect and measure the pesticide chemical residue or the petitioner's statement about why such a method is not needed; and

• The division to contact for that petition.

Additional information on the petitions may be obtained through the petition summaries that were prepared by the petitioners pursuant to 21 U.S.C. 346a(d)(2)(A)(i)(I) and 40 CFR 180.7(b)(1), which are included in the docket for the petition as identified in this unit.

• PP 4F9143. (EPA-HQ-OPP-2025-0103). AgriTitan, LLC., 2910 NE 48th St. Lighthouse Point, Fl 33064, requests to establish an exemption from the requirement of a tolerance in 40 CFR part 180 for residues of the bactericide and fungicide ultrafine zinc-doped anatase titanium dioxide on food and non-food plants in or on all food commodities. The petitioner believes no analytical method is needed because the levels of the active ingredient residue that may be present on food and non-food crops are orders of magnitude (>1000-fold) below doses used in oral toxicology studies in mammals and the levels approved by FDA (1% w/w) and other organizations as safe for food use. Contact: BPPD.

• PP 1F8976. (EPA-HQ-OPP-2022-0455). UPL Delaware Inc., and UPL NA Inc., 630 Freedom Business Center, Suite 402, King of Prussia, PA 19406, requests to establish tolerances in 40 CFR 180.301 for residues of the fungicide carboxin in or on vegetable, legume, forage and hay, except soybean, subgroup 7-22A at 2 ppm; vegetable, legume, pulse, bean, dried shelled, except soybean, subgroup 6-22E at 0.2 ppm; and vegetable, legume, pulse, pea, dried shelled, subgroup 6-22F at 0.2 ppm. The GLC/MSD method and the Colorimetric Method is used to measure and evaluate the chemical Carboxin. Contact: RD.

• PP 1F8976. (EPA-HQ-OPP-2022-0455). UPL Delaware Inc., and UPL NA Inc., 630 Freedom Business Center, Suite 402, King of Prussia, PA 19406, requests to remove the tolerance in 40 CFR 180.301 for residues of the fungicide carboxin in or on bean, dry, seed. The GLC/MSD method and the Colorimetric Method is used to measure and evaluate the chemical Carboxin. Contact: RD.

• PP 4F9101. (EPA-HQ-OPP-2025-0042). Syngenta Crop Protection, LLC P.O. Box 18300, Greensboro, NC 27419, requests to establish a tolerance in 40 CFR part 180 for residues of the fungicide thiabendazole in or on cottonseed crop subgroup 20C at 0.01 ppm. The analytical method used in the residue trials (GRM040.01A) is used to measure and evaluate the chemical thiabendazole. Contact: RD.

• PP4F9148.(EPA-HQ-OPP-2025-0318). Bayer CropScience LP, 800 N. Lindbergh Blvd., St. Louis, MO 63167, requests to establish a tolerance in 40 CFR 180 for residues of the fungicide fluopyram ((N-[2-[3-chloro-5-(trifluoromethyl)-2-pyridinyl] ethyl]-2-(trifluoromethyl) benzamide) in or on pennycress, seed at 0.3 ppm. The high-performance liquid chromatography-electrospray ionization/tandem mass spectrometry (LC-MS/MS) is used to measure and evaluate the chemical fluopyram. Contact: RD.

• PP 5F9181. (EPA-HQ-OPP-2025-0392). Bayer CropScience, 800 N. Lindbergh Blvd., St. Louis, MO 63167, requests to establish a tolerance in 40 CFR part 180 for residues of the fungicide, Tebuconazole, in or on rice, grain at 10 ppm, rice, husked at 2.4 ppm, rice, polished rice at 1 ppm. The enforcement method for plant commodities has been validated on various commodities. It has undergone successful EPA validation and has been submitted for inclusion in PAM II. The animal method has also been approved as an adequate enforcement method and is used to measure and evaluate the chemical Tebuconazole. Contact: RD.

Authority: 21 U.S.C. 346a.

Dated: September 23, 2025.
Kimberly Smith,
Acting Director, Information Technology and Resources Management Division, Office of Program Support.

[FR Doc. 2025-18902 Filed 9-26-25; 8:45 am]

BILLING CODE 6560-50-P